DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Hoosier Valley Railroad Museum, Inc.

[Waiver Petition Docket Number FRA-2009-0023]

The Hoosier Valley Railroad Museum, Inc. (HVRM) seeks a waiver of compliance from 49 CFR 240.201(d) which states, “After December 31, 1991, no railroad shall permit or require any person to operate a locomotive in any class of locomotive or train service unless that person has been certified as a qualified locomotive engineer and issued a certificate that complies with § 240.223.” HVRM desires to conduct an “engineer-for-an-hour” charter, which would allow “non-certified” individuals to operate a locomotive.

HVRM currently operates on track owned by the town of North Judson, Indiana, which is controlled and operated by the Chesapeake and Indiana Railroad (CKIN). HVRM currently operates between milepost (MP) 212.5 and MP 223.0 on CKIN. The Museum Depot is located at approximately MP 213.4. HVRM proposes to conduct the engineer-for-an-hour operations between MP 213.5 and MP 216.

HVRM will verify that each participant is in possession of a valid state issued motor vehicle license, evaluate each participant visually for fitness to operate the locomotive with respect to obvious signs of alcohol and/or drug use, and will have a certified locomotive engineer in the cab at all times. The operations will be conducted under Absolute Block Authority (a section of track that can only be occupied by one train at a time) on a designated portion of track only during daylight hours. An HVRM qualified locomotive engineer will conduct a job briefing with each participant to ensure all parties know and understand the movement to be made and know and understand individual responsibilities in the proposed movements. HVRM would limit engineer-for-an-hour train size to one (1) locomotive and not more than three (3) cars with no revenue passengers or members of the public on board during operations. Any accident or incident that occurs during an engineer-for-an-hour movement will be immediately reported to the Federal Railroad Administration.

HVRM believes that granting this waiver will enable it to generate funds to support its goal of acquiring and refurbishing railroad antiquities so that they may be enjoyed by future generations. HVRM also believes these operations will not pose any safety concerns to the public at large.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0023) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on May 6, 2009.
Grady C. Cothen, Jr.,
Deputy Associate Administrator for Safety Standards and Program Development.

[FR Doc. E9-11020 Filed 5-11-09; 8:45 am]

BILLING CODE 4910-06-P